Title 3—

The President

Proclamation 7658 of April 1, 2003

National Donate Life Month, 2003

By the President of the United States of America

A Proclamation

Advances in medical research and technology are helping our citizens to live longer and better lives. An important aspect of these improvements is transplant technology. Today, up to 50 lives can be saved or enhanced by just one organ and tissue donor. During National Donate Life Month, we honor living and deceased donors and their families across our Nation who have renewed the lives of others, and we call upon more Americans to follow their example.

Through our Nation's organ and tissue donor programs, thousands of Americans have given the gift of life. In 2002, 24,851 organ transplants and 32,744 corneal transplants were performed in the United States. In addition, the National Bone Marrow Donor Registry facilitated an average of 173 transplants each month. These donors' spirit of giving reflects the compassion of our great Nation.

Unfortunately, the current rate of donation is inadequate to meet the growing needs of our fellow Americans. Nearly 81,000 of our citizens are on the national organ transplant waiting list. Each day, an average of 68 of these individuals receive an organ transplant, yet another 17 on the waiting list die. As a Nation, we must strive to meet the needs of all Americans awaiting such donations.

Through the “Gift of Life Donation Initiative,” my Administration is working to educate our Nation about the importance of becoming a donor. During National Donate Life Month, more than 6,000 partners, including Federal agencies, State governments, private industries, unions, fraternal organizations, and associations have committed to promoting organ and tissue donation awareness. As a result, millions of Americans will learn about the many ways they can help those in need and save lives.

NOW, THEREFORE, I, GEORGE W. BUSH, President of the United States of America, by virtue of the authority vested in me by the Constitution and laws of the United States, do hereby proclaim April 2003 as National Donate Life Month. I call upon our citizens to sign an organ and tissue donor card and to be screened for bone marrow donation. I also urge healthcare professionals, volunteers, educators, government agencies, and private organizations to help raise awareness of the important need for organ and tissue donors in communities throughout our Nation.

IN WITNESS WHEREOF, I have hereunto set my hand this First day of April, in the year of our Lord two thousand three, and of the Independence of the United States of America the two hundred and twenty-seventh.

B

[FR Doc. 03-8429

Filed 4-3-03; 8:45 am]

Billing code 3195-01-P